LEGAL SERVICES CORPORATION

Notice of Intent to Award—Grant Awards for the Provision of Civil Legal Services to Eligible Low-Income Clients Beginning January 1, 2002.

AGENCY: Legal Services Corporation.

ACTION: Announcement of intention to make FY 2002 Competitive Grant Awards.

SUMMARY: The Legal Services Corporation (LSC) hereby announces its intention to award grants and contracts to provide economical and effective delivery of high quality civil legal services to eligible low-income clients, beginning January 1, 2002.

DATES: All comments and recommendations must be received on or before the close of business on November 1, 2001.

ADDRESSES: Legal Services Corporation—Competitive Grants, Legal Services Corporation, 750 First Street NE, 10th Floor, Washington, DC 20002-4250.

FOR FURTHER INFORMATION CONTACT: Reginald Haley, Office of Program Performance, (202) 336-8827.

SUPPLEMENTARY INFORMATION: Pursuant to LSC's announcement of funding availability on April 19, 2001 (66 FR 20165), July 13, 2001 (66 FR 36807), and Grant Renewal applications due on August 13, 2001, LSC will award funds to one or more of the following organizations to provide civil legal services in the indicated service areas.

Service area | Applicant name | Anticipated FY 2002 award
AL-1 | Legal Services Corporation of Alabama, Inc | $4,831,192
AL-2 | Legal Services of North-Central Alabama, Inc | 549,609
AL-3 | Legal Services of Metro Birmingham, Inc | 977,006
MAL | Texas Rural Legal Aid, Inc | 29,695
AK-1 | Alaska Legal Services Corporation | 587,522
NAK-1 | Alaska Legal Services Corporation | 488,688
AZ-2 | DNA-Peoples Legal Services, Inc | 549,786
AZ-3 | Community Legal Services, Inc | 2,655,476
AZ-5 | Southern Arizona Legal Aid, Inc | 1,642,490
MAZ | Community Legal Services, Inc | 133,997
NAZ-5 | DNA-Peoples Legal Services, Inc | 2,357,944
NAZ-6 | Southern Arizona Legal Aid, Inc | 575,978
AR-6 | Ozark Legal Services | 1,529,150
AR-7 | Center for Arkansas Legal Services | 2,265,833
MAR | Texas Rural Legal Aid, Inc | 63,300
CA-1 | California Indian Legal Services, Inc | 26,923
CA-2 | Greater Bakersfield Legal Assistance, Inc | 595,811
CA-12 | Inland Counties Legal Services, Inc | 2,503,568
CA-14 | Legal Aid Society of San Diego, Inc | 2,217,381
CA-19 | Legal Aid Society of Orange County, Inc | 2,818,744
CA-26 | Central California Legal Services | 2,176,387
CA-27 | Legal Services of Northern California, Inc | 2,698,853
CA-28 | Bay Area Legal Aid | 3,612,603
CA-29 | Legal Aid Foundation of Los Angeles | 6,314,739
CA-30 | Neighborhood Legal Services of Los Angeles County | 3,196,664
CA-31 | California Rural Legal Assistance, Inc | 3,477,326
MCA | California Rural Legal Assistance, Inc | 2,382,503
NCA-1 | California Indian Legal Services, Inc | 798,333
CO-6 | Colorado Legal Services | 3,178,056
MCO | Colorado Legal Services | 134,041
NCO-1 | Colorado Legal Services | 86,780
CT-1 | Statewide Legal Services of Connecticut, Inc | 1,903,538
NCT-1 | Pine Tree Legal Assistance, Inc | 14,147
DE-1 | Legal Services Corporation of Delaware, Inc | 473,889
MDE | Legal Aid Bureau, Inc | 22,403
DC-1 | Neigh. Legal Services Prog. of the Dist. of Columbia | 849,867
FL-1 | Central Florida Legal Services, Inc | 1,029,969
FL-2 | LA Service of Broward County | 1,051,155
FL-3 | Florida Rural Legal Services, Inc | 2,081,636
FL-4 | Jacksonville Area Legal Aid, Inc | 823,218
FL-5 | Legal Services of Greater Miami, Inc | 2,908,208
FL-6 | Legal Services of North Florida, Inc | 882,872
FL-7 | Greater Orlando Area Legal Services, Inc | 832,698
FL-8 | Bay Area Legal Services, Inc | 1,171,381
FL-9 | Withlacoochee Area Legal Services, Inc | 467,966
FL-10 | Three Rivers Legal Services, Inc | 656,525
FL-11 | Northwest Florida Legal Services, Inc | 452,589
FL-12 | Gulfcoast Legal Services, Inc | 991,730
MFL | Florida Rural Legal Services, Inc | 810,560
GA-1 | Atlanta Legal Aid Society, Inc | 1,880,428
GA-2 | Georgia Legal Services Program | 5,914,001
MGA | Georgia Legal Services Program | 353,848
GU-1 | Guam Legal Services Corporation | 167,338
HI-1 | Legal Aid Society of Hawaii | 895,875
MHI | Legal Aid Society of Hawaii | 62,197
NHI-1 | Native Hawaiian Legal Corporation | 206,990
ID-1 | Idaho Legal Aid Services, Inc | 984,032
MID | Idaho Legal Aid Services, Inc | 168,697
NID-1 | Idaho Legal Aid Services, Inc | 58,706
IL-3 | Land of Lincoln Legal Assistance Foundation, Inc | 2,769,444
IL-6 | Legal Assistance Foundation of Metropolitan Chicago | 6,174,934
IL-7 | Prairie State Legal Services, Inc | 2,541,676
MIL | Legal Assistance Foundation of Metropolitan Chicago | 225,297
IN-5 | Indiana Legal Services, Inc | 4,960,961
MIN | Indiana Legal Services, Inc | 102,616
IA-1 | Legal Services Corporation of Iowa | 2,423,664
IA-2 | Legal Aid Society of Polk County | 255,945
MIA | Legal Services Corporation of Iowa | 34,055
KS-1 | Kansas Legal Services, Inc | 2,413,433
MKS | Kansas Legal Services, Inc | 10,725
KY-2 | Legal Aid Society | 1,231,133
KY-5 | Appalachian Research & Defense Fund of KY | 2,159,298
KY-9 | Cumberland Trace Legal Services, Inc | 1,280,662
KY-10 | Northern Kentucky Legal Aid Society, Inc | 1,309,139
MKY | Texas Rural Legal Aid, Inc | 38,407
LA-10 | Southwest Louisiana Legal Services Society, Inc | 2,206,947
LA-10 | Acadiana Legal Service Corporation | 2,206,947
LA-11 | Kisatchie Legal Services Corporation | 2,092,899
MLA | Texas Rural Legal Aid, Inc | 24,849
ME-1 | Pine Tree Legal Assistance, Inc | 1,069,215
MMX-1 | Pine Tree Legal Assistance, Inc | 112,715
NME-1 | Pine Tree Legal Assistance, Inc | 58,242
MD-1 | Legal Aid Bureau, Inc | 3,319,036
MMD | Legal Aid Bureau, Inc | 82,058
MA-1 | Volunteer Lawyers Project of the Boston Bar Assoc | 1,581,988
MA-2 | South Middlesex Legal Services, Inc | 171,098
MA-3 | Legal Services for Cape Cod and Islands, Inc | 208,932
MA-4 | Merrimack Valley Legal Services, Inc | 765,859
MA-5 | New Center for Legal Advocacy | 558,445
MA-10 | Massachusetts Justice Project, Inc | 1,282,984
MI-1 | Legal Services of Southern Michigan, Inc | 579,198
MI-1 | Wayne County Neighborhood Legal Services, Inc | 579,198
MI-2 | Legal Services of Southern Michigan, Inc | 249,678
MI-3 | Legal Aid and Defender Association, Inc | 3,501,300
MI-3 | Wayne County Neighborhood Legal Services, Inc | 3,501,300
MI-4 | Wayne County Neighborhood Legal Services, Inc | 1,381,151
MI-4 | Legal Services of Eastern Michigan | 1,381,151
MI-5 | Wayne County Neighborhood Legal Services, Inc | 543,413
MI-5 | Legal Services of Southern Michigan, Inc | 543,413
MI-6 | Wayne County Neighborhood Legal Services, Inc | 589,508
MI-6 | Lakeshore Legal Aid | 589,508
MI-7 | Wayne County Neighborhood Legal Services, Inc | 581,229
MI-7 | Oakland Livingston Legal Aid | 581,229
MI-8 | Western Michigan Legal Services | 194,887
MI-9 | Legal Services of Northern Michigan, Inc | 836,388
MI-10 | Western Michigan Legal Services | 1,078,616
MI-11 | Western Michigan Legal Services | 431,925
MMI | Legal Services of Southern Michigan, Inc | 543,263
NMI-1 | Michigan Indian Legal Services, Inc | 148,750
MP-1 | Micronesian Legal Services, Inc | 1,481,411
MN-1 | Legal Aid Service of Northeastern Minnesota | 495,225
MN-2 | Judicare of Anoka County, Inc | 107,807
MN-3 | Central Minnesota Legal Services, Inc | 1,299,200
MN-4 | Legal Services of Northwest Minnesota Corporation | 485,427
MN-5 | Southern Minnesota Regional Legal Services, Inc | 1,274,536
MMN | Southern Minnesota Regional Legal Services, Inc | 180,570
NMN-1 | Anishinabe Legal Services, Inc | 215,947
MS-2 | North Mississippi Rural Legal Services, Inc | 2,359,314
MS-3 | South Mississippi Legal Services Corporation | 615,310
MS-7 | Central Mississippi Legal Services | 1,484,475
MS-8 | Southeast Mississippi Legal Services Corporation | 1,059,629
MMS | Texas Rural Legal Aid, Inc | 51,507
NMS-1 | Southeast Mississippi Legal Services Corporation | 75,113
MO-3 | Legal Aid of Western Missouri | 1,792,421
MO-4 | Legal Services of Eastern Missouri, Inc | 1,883,685
MO-5 | Mid-Missouri Legal Services Corporation | 367,610
MO-7 | Legal Services of Southern Missouri | 1,735,873
MMO | Legal Aid of Western Missouri | 73,522
MT-1 | Montana Legal Services Association | 1,052,841
MMT | Montana Legal Services Association | 49,265
NMT-1 | Montana Legal Services Association | 143,880
NE-4 | Nebraska Legal Services | 1,467,905
MNE | Nebraska Legal Services | 38,160
NNE-1 | Nebraska Legal Services | 29,869
NV-1 | Nevada Legal Services, Inc | 1,053,997
MNV | Nevada Legal Services, Inc | 2,269
NNV-1 | Nevada Legal Services, Inc | 120,157
NH-1 | Legal Advice & Referral Center, Inc | 601,019
NJ-1 | Cape-Atlantic Legal Services, Inc | 242,996
NJ-2 | Warren County Legal Services, Inc | 42,432
NJ-3 | Camden Regional Legal Services, Inc | 902,363
NJ-4 | Union County Legal Services Corporation | 304,204
NJ-5 | Hunterdon County Legal Service Corporation | 23,895
NJ-6 | Bergen County Legal Services | 275,798
NJ-7 | Hudson County Legal Services Corporation | 701,093
NJ-8 | Essex-Newark Legal Services Project, Inc | 940,938
NJ-9 | Middlesex County Legal Services Corporation | 286,488
NJ-10 | Passaic County Legal Aid Society | 384,840
NJ-11 | Somerset-Sussex Legal Services Corporation | 90,735
NJ-12 | Ocean-Monmouth Legal Services, Inc | 456,306
NJ-13 | Legal Aid Society of Mercer County | 199,381
NJ-14 | Legal Aid Society of Morris County | 98,971
MNJ | Camden Regional Legal Services, Inc | 108,901
NM-1 | DNA-Peoples Legal Services, Inc | 220,345
NM-5 | Southern New Mexico Legal Services, Inc | 2,401,375
MNM | Southern New Mexico Legal Services, Inc | 78,827
NNM-2 | DNA-Peoples Legal Services, Inc | 20,530
NNM-4 | Southern New Mexico Legal Services, Inc | 419,855
NY-1 | LAS of Northeastern New York, Inc | 732,342
NY-3 | Legal Aid for Broome/Chenango | 239,491
NY-4 | Neighborhood Legal Services, Inc | 1,007,857
NY-6 | Chemung County Neighborhood Legal Services, Inc | 285,799
NY-7 | Nassau/Suffolk Law Services Committee, Inc | 946,561
NY-8 | Legal Aid Society of Rockland County, Inc | 577,618
NY-9 | Legal Services for New York City | 12,073,717
NY-10 | Niagara County Legal Aid Society, Inc | 202,911
NY-13 | Legal Services of Central New York, Inc | 750,314
NY-14 | Legal Aid Society of Mid-New York, Inc | 661,159
NY-15 | Westchester/Putnam Legal Services, Inc | 646,885
NY-16 | North Country Legal Services, Inc | 346,742
NY-18 | Monroe County Legal Assistance Corporation | 944,892
NY-19 | Southern Tier Legal Services | 436,091
MNY | Legal Aid Society of Mid-New York, Inc | 249,819
NC-5 | North Carolina Legal Services Transition Board | 6,841,627
MNC | North Carolina Legal Services Transition Board | 483,714
NNC-1 | North Carolina Legal Services Transition Board | 197,210
ND-1 | Legal Assistance of North Dakota, Inc | 665,776
ND-2 | North Dakota Legal Services, Inc | 8,845
MND | Southern Minnesota Regional Legal Services, Inc | 104,611
NND-1 | Legal Assistance of North Dakota, Inc | 114,960
NND-2 | North Dakota Legal Services, Inc | 128,449
OH-5 | The Legal Aid Society of Columbus | 1,232,342
OH-17 | Ohio State Legal Services | 1,960,579
OH-18 | Legal Aid Society of Greater Cincinnati | 1,460,605
OH-19 | Western Ohio Legal Services Association | 1,500,857
OH-20 | Community Legal Aid Services, Inc | 2,083,039
OH-21 | The Legal Aid Society of Cleveland | 2,204,828
OH-22 | Legal Services of Northwest Ohio, Inc | 1,146,912
MOH | Legal Services of Northwest Ohio, Inc | 113,686
OK-3 | Legal Services of Eastern Oklahoma, Inc | 4,444,118
MOK | Legal Services of Eastern Oklahoma, Inc | 56,477
NOK-1 | Oklahoma Indian Legal Services, Inc | 739,870
OR-2 | Lane County Legal Aid Service, Inc | 293,585
OR-4 | Marion-Polk Legal Aid Service, Inc | 258,770
OR-5 | Legal Aid Services of Oregon | 1,989,135
MOR | Legal Aid Services of Oregon | 502,728
NOR-1 | Legal Aid Services of Oregon | 166,808
PA-1 | Philadelphia Legal Assistance Center | 2,729,704
PA-5 | Laurel Legal Services, Inc | 862,772
PA-8 | Neighborhood Legal Services Association | 1,759,398
PA-11 | Southwestern Pennsylvania Legal Services, Inc | 554,226
PA-23 | Legal Aid of Southeastern PA | 863,982
PA-24 | North Penn Legal Services, Inc | 1,581,900
PA-25 | MidPenn Legal Services, Inc | 2,059,453
PA-26 | Northwestern Legal Services | 769,857
MPA | Philadelphia Legal Assistance Center | 149,586
PR-1 | Puerto Rico Legal Services, Inc | 17,565,821
PR-2 | Community Law Office, Inc | 332,707
MPR | Puerto Rico Legal Services, Inc | 262,398
RI-1 | Rhode Island Legal Services, Inc | 816,421
SC-8 | Legal Services Agency of Western Carolina, Inc | 4,392,152
MSC | Legal Services Agency of Western Carolina, Inc | 178,522
SD-1 | Black Hills Legal Services, Inc | 169,968
SD-2 | East River Legal Services | 457,436
SD-3 | Dakota Plains Legal Services, Inc | 307,390
MSD | Black Hills Legal Services, Inc | 3,584
NSD-1 | Dakota Plains Legal Services, Inc | 843,707
TN-4 | Memphis Area Legal Services, Inc | 1,447,100
TN-7 | West Tennessee Legal Services, Inc | 688,232
TN-9 | Knoxville Legal Aid Society, Inc | 2,045,356
TN-10 | Legal Aid Society of Middle Tennessee | 2,337,828
MTN | Texas Rural Legal Aid, Inc | 57,244
TX-13 | East Texas Legal Services, Inc | 8,702,089
TX-14 | West Texas Legal Services, Inc | 6,826,939
TX-15 | Texas Rural Legal Aid, Inc | 9,703,546
TX-15 | Legal Aid of Central Texas | 9,703,546
TX-15 | El Paso Legal Assistance Society | 9,703,546
TX-15 | Bexar County Lgl Aid Assoc | 9,703,546
MTX | Texas Rural Legal Aid, Inc | 1,261,675
NTX-1 | Texas Rural Legal Aid, Inc | 28,281
UT-1 | Utah Legal Services, Inc | 1,637,273
MUT | Utah Legal Services, Inc | 61,217
NUT-1 | Utah Legal Services, Inc | 74,340
VT-1 | Legal Services Law Line of Vermont, Inc | 463,791
VI-1 | Legal Services of the Virgin Islands, Inc | 297,407
VA-15 | Southwest Virginia Legal Aid Society, Inc | 847,729
VA-16 | Legal Services of Eastern Virginia, Inc | 1,326,167
VA-17 | Virginia Legal Aid Society, Inc | 810,631
VA-18 | Central Virginia Legal Aid Society, Inc | 886,774
VA-19 | Blue Ridge Legal Services, Inc | 600,693
VA-20 | Potomac Legal Aid Society, Inc | 753,854
MVA | Central Virginia Legal Aid Society, Inc | 142,348
WA-1 | Northwest Justice Project | 3,913,143
MWA | Northwest Justice Project | 658,767
NWA-1 | Northwest Justice Project | 257,410
WV-5 | Legal Aid of West Virginia, Inc | 3,013,217
MWV | Legal Aid of West Virginia, Inc | 32,996
WY-4 | Wyoming Legal Services, Inc | 451,786
MWY | Wyoming Legal Services, Inc | 11,228
NWY-1 | Wyoming Legal Services, Inc | 156,148

These grants and contracts will be awarded under the authority conferred on LSC by the Legal Services Corporation Act, as amended (42 U.S.C. 2996e(a)(1)). Awards will be made so that each service area indicated is served by one of the organizations listed above, although none of the listed organizations are guaranteed an award or contract. This public notice is issued pursuant to the LSC Act (42 U.S.C. 2996f(f)), with a request for comments and recommendations concerning the potential grantees within a period of thirty (30) days from the date of publication of this notice. Grants will become effective and grant funds will be distributed on or about January 1, 2002.

Dated: September 26, 2001.
Michael A. Genz,
Director, Office of Program Performance.

[FR Doc. 01-24572 Filed 10-1-01; 8:45 am]

BILLING CODE 7050-01-P